SUSQUEHANNA RIVER BASIN COMMISSION

18 CFR Part 806

Review and Approval of Projects

CFR Correction

In Title 18 of the Code of Federal Regulations, Part 400 to End, revised as of April 1, 2011, on page 118, in § 806.6, (b)(1)(i) and (ii) are removed.

[FR Doc. 2012-5837 Filed 3-8-12; 8:45 am]

BILLING CODE 1505-01-D